DEPARTMENT OF AGRICULTURE

Farm Service Agency

Commodity Credit Corporation

Information Collection Request; Assignment and Joint Payment Elections

AGENCY: Farm Service Agency and Commodity Credit Corporation, USDA.

ACTION: Notice; request for comments.

SUMMARY: In accordance with the Paperwork Reduction Act of 1995, the Commodity Credit Corporation (CCC) and Farm Service Agency (FSA) are seeking comments from all interested individuals and organizations on an extension and a revision of a currently approved information collection associated with Assignment and Joint Payment Elections. The information collection is in support of 7 CFR part 1404, which sets forth the manner in which a person may voluntarily assign a cash payment made by FSA or CCC to a third party. In addition, a payment recipient may voluntarily elect to have a cash payment made jointly to the payment recipient and a third party.

DATES: We will consider comments that we receive by April 9, 2012.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail: Yanira Sanabria, Financial Specialist, USDA, FSA, FMD, STOP 0581, 1400 Independence Ave. SW., Washington, DC 20250-0581.

• Email: yanira.sanabria@wdc.usda.gov.

• Fax: (202) 245-4785.

You may also send comments to the Desk Officer for Agriculture, Office of Information and Regulatory Affairs, Office of Management and Budget, Washington, DC 20503. Copies of the information collection may be requested by contacting Yanira Sanabria at the above address.

FOR FURTHER INFORMATION CONTACT: Yanira Sanabria, Financial Specialist, Farm Service Agency (202) 772-6032. Persons with disabilities who require alternative mean for communication (Braille, large print, audio tape, etc.) should contact the USDA's TARGET Center at (202) 720-2600 (Voice and TDD).

SUPPLEMENTARY INFORMATION: Title: CCC-36, “Assignment of Payment”, CCC-37, “Joint Payment Authorization”, CCC-251, “Notice of Assignment”, and CCC-252, “Instrument of Assignment.”

OMB Control Number: 0560-0183.

Expiration Date of Approval: July 31, 2012.

Type of Request: Revision and extension of a currently approved information collection.

Abstract: FSA and CCC are requesting an extension of the currently approved information collection for Forms CCC-36, “Assignment of Payment”, CCC-37, “Joint Payment Authorization”, CCC-251, “Notice of Assignment”, and CCC-252, “Instrument of Assignment”. The Soil Conservation and Domestic Allotment Act (16 USC 590h(g)) authorizes producers to assign FSA conservation program payments in accordance with regulations issued by the Secretary. The Assignment of Payments regulation at 7 CFR Part 1404 requires that any such assignment be signed by both the assignor and the assignee. The Agricultural Act of 1949, as amended, extends that authority to CCC programs, including rice, feed grains, cotton, and wheat. There are no regulations governing joint payments, but this service is offered as a result of public requests for this type of payment option.

The burden hours have increased due to more producers participating in new Disaster Programs in the past few years. They are Livestock Indemnity Program, Livestock Forage Disaster Assistance Program, Supplemental Revenue Assistance Payment (SURE), Tree Assistance Program, Emergency Assistance for Livestock Honeybee and Farm-Raised Fish Program.

Estimate of Respondent Burden: Public reporting burden for this collection of information is estimated to average 10 minutes per response for each form of CCC-36, CCC-37, and CCC-251, and 5 minutes per response for CCC-252.

Respondents: Producers participating in FSA or CCC programs.

Estimated Number of Respondents: 170,430 for CCC-36; 40,496 for CCC-37, 450 for CCC-251 and 450 for CCC-252.

Estimated Annual Number of Forms per person: 1.

Estimated Total Annual Responses: 211,826.

Estimated Total Annual Burden Hours: 35,266.

We are requesting comments on all aspects of this information collection and to help us to:

(1) Determine whether the continued collection of information is still necessary for the proper performance of the functions of the FSA, including whether the information will have practical utility;

(2) Assess the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for the Office of Management and Budget approval.

Signed on February 3, 2012.
Bruce Nelson,
Administrator, Farm Service Agency, and Executive Vice President, Commodity Credit Corporation.

[FR Doc. 2012-2861 Filed 2-7-12; 8:45 am]

BILLING CODE 3410-05-P